DEPARTMENT OF THE INTERIOR

Fish and Wildlife Service

[FWS-HQ-R-2020-N023; FXGO1664091HCC0-FF09D00000-190]

Hunting and Shooting Sports Conservation Council; Call for Nominations

AGENCY: Fish and Wildlife Service, Interior.

ACTION: Call for nominations.

SUMMARY: The Secretary of the Interior and the Director of the U.S. Fish and Wildlife Service seek nominations for membership on the Hunting and Shooting Sports Conservation Council (Council). The Council reports to the Secretary of the Interior and the Secretary of Agriculture to provide recommendations regarding the establishment and implementation of conservation endeavors that benefit wildlife resources; encourage partnership among the public, sporting conservation organizations, and Federal, State, Tribal, and territorial governments; and benefit recreational hunting and recreational shooting sports.

DATES: Nominations via email must be date stamped no later than April 6, 2020. Nominations received via U.S. mail must be postmarked by April 6, 2020.

ADDRESSES: Please address nomination letters to Ms. Aurelia Skipwith, Director, U.S. Fish and Wildlife Service. You may email nominations to doug_hobbs@fws.gov, or send hard copies via U.S. mail to Douglas Hobbs, Designated Federal Officer; Hunting and Shooting Sports Conservation Council; U.S. Fish and Wildlife Service; 5275 Leesburg Pike, Mailstop EA; Falls Church, VA 22041-3803.

FOR FURTHER INFORMATION CONTACT: Douglas Hobbs, Designated Federal Officer, at the email or mailing address in ADDRESSES, or by telephone at (703) 358-2336. Individuals who are hearing impaired or speech impaired may call the Federal Relay Service at 800-877-8337 for TTY assistance.

SUPPLEMENTARY INFORMATION: The Council reports to the Secretary of the Interior and the Secretary of Agriculture to provide recommendations regarding the establishment and implementation of conservation endeavors that benefit wildlife resources; encourage partnership among the public, sporting conservation organizations, and Federal, State, Tribal, and territorial governments; and benefit recreational hunting and recreational shooting sports.

Council Duties

The Council conducts its operations in accordance with the provisions of the Federal Advisory Committee Act (FACA; 5 U.S.C. App.). It reports to the Secretary of the Interior and the Secretary of Agriculture. The Council functions solely as an advisory body. The duties of the Council include:

(a) Assessing and quantifying implementation of Executive Order 13443 and Secretary's Orders 3347 and 3356 across relevant departments, agencies, and offices, and making recommendations to enhance and expand their implementation as identified; and

(b) Making recommendations regarding policies and programs that:

1. Conserve and restore wetlands, agricultural lands, grasslands, forests, and rangeland habitats;

2. Promote opportunities and expand access to hunting and shooting sports on public and private lands;

3. Encourage hunting and shooting safety by developing ranges on public lands;

4. Recruit and retain new shooters and hunters;

5. Increase public awareness of the importance of wildlife conservation and the social and economic benefits of hunting and shooting; and

6. Encourage coordination among the public; hunting and shooting sports community; wildlife conservation groups; and Federal, State, Tribal, and territorial governments.

To obtain more information on Council duties and to see a copy of the Council's charter, visit the Council website at https://www.fws.gov/hsscc/.

Member Terms and Vacancies To Fill

We are requesting nominations to fill vacancies to represent the following organizations/entities:

• U.S. hunters actively engaged in domestic and/or international hunting conservation;

• Archery, hunting, and/or shooting sports industry;

• Tourism, outfitter, and/or guide industries related to hunting and/or shooting sports;

• Tribal resource management organizations;

• Agriculture industry;

• Ranching industry; and

• Veterans' service organizations.

Nomination Method and Eligibility

Each nomination should include a resume providing an adequate description of the nominee's qualifications, including information that would enable the Department of the Interior to make an informed decision regarding meeting the membership requirements of the Council and allow the Department of the Interior to contact a potential member. Current members are eligible to be nominated for reappointment to the Council.

(Authority: 5 U.S.C. Appendix 2)

Douglas Hobbs,
Acting Assistant Director—External Affairs.

[FR Doc. 2020-04463 Filed 3-4-20; 8:45 am]

BILLING CODE 4333-15-P